DEPARTMENT OF THE TREASURY

Proposed Collection; Comment Request

AGENCY: Office of Investment Security, Treasury.

ACTION: Notice and request for comments.

SUMMARY: The Department of the Treasury, as part of its continuing effort to reduce paperwork and respondent burden, invites the general public and other Federal agencies to take this opportunity to comment on continuing information collections, as required by the Paperwork Reduction Act of 1995, Public Law 104-13 (44 U.S.C. 3506(c)(2)(A)). Currently, the Office of Investment Security within the Department of the Treasury is soliciting comments concerning the information collection provisions of the Regulations Pertaining to Mergers, Acquisitions and Takeovers by Foreign Persons, 31 CFR 800.402.

DATES: Written comments should be received on or before October 9, 2012 to be assured of consideration.

ADDRESSES: Direct all written comments to Aimen Mir, Director, Office of Investment Security, Department of the Treasury, 1500 Pennsylvania Avenue, NW., Room 5221, Washington, DC 20220—(202) 622-1860.

FOR FURTHER INFORMATION CONTACT: Requests for additional information should be directed to Amad Judeh, Office of Investment Security, Department of the Treasury, 1500 Pennsylvania Avenue NW., Washington, DC 20220—(202) 622-1715; or Francine McNulty Barber, Senior Counsel, Department of the Treasury, Room 2014, 1500 Pennsylvania Ave. NW., Washington, DC 20220—(202) 622-1947.

SUPPLEMENTARY INFORMATION: Title: Regulations Pertaining to Mergers, Acquisitions and Takeovers by Foreign Persons.

OMB Number: 1505-0121.

Abstract: The information request in this proposed collection is contained in 31 CFR 800.402. The information collected under these regulations is used by the Committee on Foreign Investment in the United States (CFIUS), an inter-agency committee chaired by the Secretary of the Treasury and comprised of the Secretaries of State, Defense, Treasury, Commerce, Homeland Security, Energy, and Labor; the Attorney General; the U.S. Trade Representative; and the Directors of National Intelligence and the Office of Science and Technology Policy. CFIUS, on behalf of the President, is authorized under section 721 of the Defense Production Act of 1950 to conduct reviews to determine the effects on the national security of transactions proposed or pending after the date of enactment (August 23, 1988) by or with foreign persons that could result in foreign control of any person engaged in interstate commerce in the United States (“covered transactions”).

Current Actions: Extension.

Type of Review: Extension.

Affected Public: Foreign businesses and foreign individuals.

Estimated Number of Responses: 105.

Estimated Time per Respondent: This varies, depending on individual circumstances, with an average of 100 hours.

Estimated Total Annual Burden Hours: 10,500 hours.

Requests For Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through use of automated collection techniques or other forms of information technology; and (e) estimates of capital or start-up costs and costs of operation, maintenance, and purchase of services to provide information.

Dated: August 6, 2012.
Dawn D. Wolfgang,
Treasury PRA Clearance Officer.

[FR Doc. 2012-19560 Filed 8-8-12; 8:45 am]

BILLING CODE P